OFFICE OF NATIONAL DRUG CONTROL POLICY

Summit on Heroin and Prescription Drugs: Federal, State, and Community Responses

AGENCY: Office of National Drug Control Policy.

ACTION: Notice.

SUMMARY: The Office of National Drug Control Policy (ONDCP) will host a “Summit on Heroin and Prescription Drugs: Federal, State, and Community Responses” highlighting the public health and safety issues surrounding prescription painkillers and heroin. The conference will be held from 9 a.m. to 12:30 p.m. on Thursday, June 19, 2014 in the South Court Auditorium of the Eisenhower Executive Office Building, 17th Street and Pennsylvania Avenue NW., Washington, DC 20500. While the summit is not open to the general public, it will be streamed live on-line for the general public to view on www.WhiteHouse.gov/Live.

The goal of the summit is to discuss trends and challenges in the epidemic of opioid abuse in the United States, identify innovative practices and models, and discuss how practitioners at every level can help reduce overdose deaths and public health consequences. Participants will include Attorney General Eric Holder, Vermont Governor Peter Shumlin, National Institute on Drug Abuse Director Dr. Nora Volkow, and experts from across the country on education, treatment, and overdose and infectious disease prevention. Summit participants will not be deliberating or providing consensus advice or recommendations to ONDCP. Issues explored will include expanding drug treatment access to millions through the Affordable Care Act, encouraging people and medical professionals to learn the signs and symptoms of problematic drug use and to intervene before substance use becomes a chronic condition, and supporting the use of naloxone, an overdose reversal drug that's easy to administer and has already saved thousands of lives.

Dated: June 6, 2014.
Michael J. Passante,
Deputy General Counsel.

[FR Doc. 2014-13912 Filed 6-13-14; 8:45 am]

BILLING CODE P